DEPARTMENT OF THE INTERIOR

National Park Service

[NPS-WASO-NAGPRA-21897; PPWOCRADN0-PCU00RP14.R50000]

Notice of Inventory Completion: San Diego Museum of Man, San Diego, CA

AGENCY: National Park Service, Interior.

ACTION: Notice.

SUMMARY: The San Diego Museum of Man has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Diego Museum of Man. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Diego Museum of Man at the address in this notice by October 20, 2016.

ADDRESSES: Ben Garcia, Deputy Director, San Diego Museum of Man, 1350 El Prado, San Diego, CA 92101, telephone (619) 239-2001 ext. 17, email bgarcia@museumofman.org.

SUPPLEMENTARY INFORMATION: Notice is here given in accordance with the Native American Graves Protection and Repatriation Act (NAGPRA), 25 U.S.C. 3003, of the completion of an inventory of human remains and associated funerary objects under the control of the San Diego Museum of Man, San Diego, CA. The human remains and associated funerary objects were removed from Long Island, Kodiak Island Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the San Diego Museum of Man professional staff in consultation with representatives of the Sun'aq Tribe of Kodiak (previously listed as the Shoonaq' Tribe of Kodiak) and the Tangirnaq Native Village (formerly Lesnoi Village (aka Woody Island)).

History and Description of the Remains

In the summer of 1968, human remains representing, at minimum, one individual were removed from Long Island, Kodiak Island Borough, AK. These remains were removed from a midden by amateur anthropologists from the Long Island Historical Society. The individual is an adult male. These remains and associated funerary objects were donated to the San Diego Museum of Man by Steve and Linda Gassaway in 1984. No known individuals were identified. The 2 associated funerary objects are 1 slate hone and 1 lot of faunal remains.

An examination of the human remains by San Diego Museum of Man physical anthropology professional staff in 1990 determined the individual to be of prehistoric native Alaskan origin. Archeological data indicate that modern Alutiiqs evolved from societies of the Kodiak region, and can trace their ancestry back over 7,500 years in the region. The modern cultural affiliation of this prehistoric individual from Long Island is shared jointly between the Sun'aq Tribe of Kodiak (previously listed as the Shoonaq' Tribe of Kodiak) and the Tangirnaq Native Village (formerly Lesnoi Village (aka Woody Island)).

Determinations Made by the {Museum or Federal Agency}

Officials of the San Diego Museum of Man have determined that:

• Pursuant to 25 U.S.C. 3001(9), the human remains described in this notice represent the physical remains of one individual of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and the Sun'aq Tribe of Kodiak (previously listed as the Shoonaq' Tribe of Kodiak) and the Tangirnaq Native Village (formerly Lesnoi Village (aka Woody Island)).

Additional Requestors and Disposition

Lineal descendants or representatives of any Indian tribe or Native Hawaiian organization not identified in this notice that wish to request transfer of control of these human remains and two associated funerary objects should submit a written request with information in support of the request to Ben Garcia, Deputy Director, San Diego Museum of Man, 1350 El Prado, San Diego, CA 92101, telephone (619) 239-2001 ext. 17, email bgarcia@museumofman.org, by October 20, 2016. After that date, if no additional requestors have come forward, transfer of control of the human remains and associated funerary objects to the Sun'aq Tribe of Kodiak (previously listed as the Shoonaq' Tribe of Kodiak) and the Tangirnaq Native Village (formerly Lesnoi Village (aka Woody Island)) may proceed.

The San Diego Museum of Man is responsible for notifying the Sun'aq Tribe of Kodiak (previously listed as the Shoonaq' Tribe of Kodiak) and Tangirnaq Native Village (formerly Lesnoi Village (aka Woody Island)) that this notice has been published.

Dated: September 7, 2016.
Melanie O'Brien,
Manager, National NAGPRA Program.

[FR Doc. 2016-22617 Filed 9-19-16; 8:45 am]

BILLING CODE 4312-50-P